PEACE CORPS

Information Collection Request; Submission for OMB Review

AGENCY: Peace Corps.

ACTION: 30-Day notice and request for comments.

SUMMARY: The Peace Corps will submit the following information collection request to the Office of Management and Budget (OMB) for review and approval. In accordance with the Paperwork Reduction Act of 1995, we invite comments on this collection from all interested individuals and organizations. The purpose of this notice is to allow an additional 30 days for public comments.

DATES: Submit comments on or before June 30, 2022.

ADDRESSES: Comments should be addressed to Virginia Burke, FOIA/Privacy Act Officer. Virginia Burke can be contacted by email at pcfr@peacecorps.gov. Email comments must be made in text and not in attachments.

FOR FURTHER INFORMATION CONTACT: Virginia Burke, FOIA/Privacy Act Officer, at (202) 692-1887, or PCFR@peacecorps.gov.

SUPPLEMENTARY INFORMATION:

Title: Onboarding Form for Peace Corps Volunteer Applicants.

OMB Control Number: 0420-0563.

Agency Form Number: PC-2174.

Type of Request: Intent to seek reinstatement, with change, of a previously approved information collection for which approval has expired, for three years.

Originating Office: Office of Volunteer Recruitment and Selection.

Affected Public: This collection will request information from Peace Corps Volunteer applicants who are invited to join the Peace Corps.

Respondents Obligation to Reply: Voluntary.

Burden to the Public:

Peace Corps Response Interview Assessment:

(a) Annual Estimated Number of Respondents: 5,000.

(b) Frequency of Response: One time.

(c) Estimated Average Burden per Response: 60 minutes.

(d) Annual estimated Total Reporting Burden: 5,000 hours.

(e) Estimated annual cost to respondents: 0.00.

General description of collection and purpose: The Peace Corps uses the Onboarding Portal to collect essential administrative information from invitees for use during Peace Corps Volunteer service, including such information as first, middle and last name, birthdate, Social Security number, primary contact information, designated emergency contact names an contact information, legal history updates, direct deposit information associated with a bank account, student loan history, and life insurance designations. The information is used by the Peace Corps to establish specific services for invitees for the purposes of supporting the Peace Corps Volunteer during service. The Information Collection expired on August 31, 2020, during the Corona Virus 2019 pandemic. We are seeking reinstatement with minor changes of this information collection and a three-year clearance.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on May 24, 2022.
Virginia Burke,
FOIA/Privacy Act Officer, Management.

[FR Doc. 2022-11524 Filed 5-27-22; 8:45 am]

BILLING CODE 6051-01-P